DEPARTMENT OF COMMERCE

International Trade Administration

[A-570-929]

Small Diameter Graphite Electrodes From the People's Republic of China: Preliminary Results of Antidumping Duty Administrative Review and Preliminary Determination of No Shipments; 2016-2017

AGENCY: Enforcement and Compliance, International Trade Administration, Department of Commerce.

SUMMARY: The Department of Commerce (Commerce) preliminarily determines that Fushun Jinly Petrochemical Co., Ltd. (Fushun Jinly), a producer and exporter of small diameter graphite electrodes from the People's Republic of China (China), did not make sales of subject merchandise at less than normal value (NV) during the period of review (POR) February 1, 2016 through January 31, 2017. In addition, Commerce preliminarily determines that the Fangda Group and Xuzhou Jianglong Carbon Products Co., Ltd. made no shipments of the subject merchandise during the POR.

DATES: Applicable March 12, 2018.

FOR FURTHER INFORMATION CONTACT: Dennis McClure or John Anwesen, AD/CVD Operations, Office VIII, Enforcement and Compliance, International Trade Administration, U.S. Department of Commerce, 1401 Constitution Avenue NW, Washington DC 20230; telephone: (202) 482-5973 or (202) 482-0131, respectively.

SUPPLEMENTARY INFORMATION:

Scope of the Order

The merchandise subject to the order is small diameter graphite electrodes. The products are currently classified under the Harmonized Tariff Schedule of the United States (HTSUS) subheadings 8545.11.0010, 3801.10, and 8545.11.0020. Although the HTSUS subheading is provided for convenience and customs purposes, the written description of the scope of the order remains dispositive. A full description of the scope of the order is contained in the Preliminary Decision Memorandum.¹

¹ See “Decision Memorandum for the Preliminary Results of Antidumping Duty Administrative Review: Small Diameter Graphite Electrodes from the People's Republic of China; 2016-2017,” from James Maeder, Associate Deputy Assistant Secretary for Antidumping and Countervailing Duty Operations performing the duties of Deputy Assistant Secretary for Antidumping and Countervailing Duty Operations, to Gary Taverman, Deputy Assistant Secretary for Antidumping and Countervailing Duty Operations, performing the non-exclusive functions and duties of the Assistant Secretary for Enforcement and Compliance, dated concurrently with, and hereby adopted by, this notice (Preliminary Decision Memorandum).

Preliminary Determination of No Shipments

Based on an analysis of U.S. Customs and Border Protection (CBP) information, and no shipment certifications submitted by the Fangda Group ² and Xuzhou Jianglong Carbon Products Co., Ltd., Commerce preliminary determines that these companies had no shipments of subject merchandise during the POR. For additional information regarding this determination, see the Preliminary Decision Memorandum.

² The Fangda Group consists of Beijing Fangda Carbon Tech Co., Ltd., Chengdu Rongguang Carbon Co., Ltd., Fangda Carbon New Material Co., Ltd., Fushun Carbon Co., Ltd., and Hefei Carbon Co., Ltd. We refer to the Fangda Group as a single entity pursuant to 19 CFR 351.401(f)(1). See Small Diameter Graphite Electrodes from the People's Republic of China: Preliminary Determination of Sales at Less Than Fair Value, Postponement of Final Determination, and Affirmative Preliminary Determination of Critical Circumstances, in Part, 73 FR 49408, 49411-12 (August 21, 2008) (where we collapsed the following individual members of the Fangda Group: Beijing Fangda Carbon Tech Co., Ltd., Chengdu Rongguang Carbon Co., Ltd., Fangda Carbon New Material Co., Ltd., Fushun Carbon Co., Ltd., and Hefei Carbon Co., Ltd.), unchanged in Final Determination of Sales at Less Than Fair Value and Affirmative Determination of Critical Circumstances: Small Diameter Graphite Electrodes from the People's Republic of China, 74 FR 2049 (January 14, 2009).

Consistent with our practice in non-market economy (NME) cases, Commerce is not rescinding this review, in part, but intends to complete the review with respect to these companies, for which it has preliminarily found no shipments, and issue appropriate instructions to CBP based on the final results of the review.³

³ See Non-Market Economy Antidumping Proceedings: Assessment of Antidumping Duties, 76 FR 65694, 65694-95 (October 24, 2011).

Methodology

Commerce is conducting this review in accordance with section 751(a)(1)(B) of the Tariff Act of 1930, as amended (the Act). For the mandatory respondent, Fushun Jinly, export prices have been calculated in accordance with section 772 of the Act. Because China is a non-market economy (NME) within the meaning of section 771(18) of the Act, NV has been calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be found at http://enforcement.trade.gov/frn/. The signed Preliminary Decision Memorandum and the electronic version of the Preliminary Decision Memorandum are identical in content.

Commerce exercised its discretion to toll all deadlines affected by the closure of the Federal Government from January 20 through 22, 2018. If the new deadline falls on a non-business day, in accordance with Commerce's practice, the deadline will become the next business day. The revised deadline for the preliminary results of this review is now March 5, 2018.⁴

⁴ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Preliminary Results of Review

Commerce preliminarily determines that Fushun Jinly is eligible to receive a separate rate in this review.⁵ As Fushun Jinly has established its eligibility for a separate rate, Commerce preliminarily determines that the following weighted-average dumping margin exists for the POR from February 1, 2016, through January 31, 2017:

⁵ See Preliminary Decision Memorandum for more details.

Exporter | Weighted- average margin (percent)
Fushun Jinly Petrochemical Carbon Co., Ltd | 0.00

Disclosure and Public Comment

Commerce intends to disclose calculations performed for these preliminary results to the parties within five days of the date of publication of this notice in accordance with 19 CFR 351.224(b). Pursuant to 19 CFR 351.309(c), interested parties may submit case briefs no later than 30 days after the date of publication of these preliminary results of review.⁶ Parties who submit case briefs or rebuttal briefs in this proceeding are encouraged to submit with each argument: (1) A statement of the issue; (2) a brief summary of the argument; and (3) a table of authorities.⁷ Rebuttal briefs, limited to issues raised in the case briefs, may be filed no later than five days after the case briefs are filed.⁸

⁶ See 19 CFR 351.309(c).

⁷ See 19 CFR 351.309(c)(2).

⁸ See 19 CFR 351.309(d).

Interested parties who wish to request a hearing must submit a written request to the Assistant Secretary for Enforcement and Compliance, U.S. Department of Commerce, filed electronically using ACCESS. An electronically filed document must be received successfully in its entirety by Commerce's ACCESS by 5:00 p.m. Eastern Time within 30 days after the date of publication of this notice.⁹ Hearing requests should contain (1) the party's name, address, and telephone number; (2) the number of participants; and (3) a list of issues to be discussed. Issues raised in the hearing will be limited to those raised in the respective case briefs. Commerce intends to issue the final results of this review, including the results of its analysis of issues raised by the parties in their written comments, within 120 days of the publication of these preliminary results, pursuant to section 751(a)(3)(A) of the Act and 19 CFR 351.213(h)(1), unless this deadline is extended.

⁹ See 19 CFR 351.310(c).

Assessment Rates

Upon issuing the final results of review, Commerce will determine, and CBP shall assess, antidumping duties on all appropriate entries covered by this review.¹⁰ If the respondent's weighted-average dumping margin is above de minimis (i.e., 0.5 percent) in the final results of this review, we will calculate an importer-specific assessment rate on the basis of the ratio of the total amount of dumping calculated for the importer's examined sales to the total entered value of those sales in accordance with 19 CFR 351.212(b)(1). Specifically, Commerce will apply the assessment rate calculation method adopted in Final Modification for Reviews.¹¹ Where an importer- (or customer-) specific ad valorem rate is zero or de minimis, we will instruct CBP to liquidate appropriate entries without regard to antidumping duties.¹²

¹⁰ See 19 CFR 351.212(b)(1).

¹¹ See Antidumping Proceeding: Calculation of the Weighted-Average Dumping Margin and Assessment Rate in Certain Antidumping Duty Proceedings; Final Modification, 77 FR 8103 (February 14, 2012) (Final Modification for Reviews).

¹² See 19 CFR 351.106(c)(2).

Pursuant to Commerce's assessment practice in NME cases, for entries that were not reported in the U.S. sales databases submitted by the exporter individually examined during this review, but that entered under the case number of that exporter (i.e., at the individually-examined exporter's cash deposit rate), Commerce will instruct CBP to liquidate such entries at the China-wide rate. In addition, for any exporter under review which Commerce determines had no shipments of the subject merchandise, any suspended entries that entered under that exporter's case number (i.e., at that exporter's rate) will be liquidated at the China-wide rate.¹³ Commerce intends to issue appropriate assessment instructions directly to CBP 15 days after publication of the final results of review.

¹³ For a full discussion of this practice, see Non-Market Economy Antidumping Proceedings: Assessment of Antidumping Duties, 76 FR 65694 (October 24, 2011).

Cash Deposit Requirements

The following cash deposit requirements will be effective upon publication of the final results of this administrative review for shipments of the subject merchandise from China entered, or withdrawn from warehouse, for consumption on or after the publication date, as provided by section 751(a)(2)(C) of the Act: (1) For subject merchandise exported by the company listed above that has a separate rate, the cash deposit rate will be that established in the final results of review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

We are issuing and publishing these results in accordance with sections 751(a)(1) and 777(i)(1) of the Act and 19 CFR 351.221(b)(4).

Dated: March 5, 2018.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Discussion of the Methodology

A. Preliminary Finding of No Shipments

B. Non-Market Economy Country

C. Separate Rates

D. Surrogate Country and Surrogate Value Data

E. Date of Sale

F. Comparisons to Normal Value

G. Bona Fides of U.S. Sales

H. U.S. Price

I. Normal Value

J. Currency Conversion

V. Recommendation

[FR Doc. 2018-04895 Filed 3-9-18; 8:45 am]

BILLING CODE 3510-DS-P